FEDERAL TRADE COMMISSION

Delegation of Authority To Respond To Requests From Costa Rica's Ministry of Economy, Industry, and Commerce

AGENCY: Federal Trade Commission.

ACTION: Delegation of Authority.

SUMMARY: The Commission has delegated authority to the Associate Director for International Consumer Protection to respond to disclosure and other requests from Costa Rica's Ministry of Economy, Industry, and Commerce (MEIC) pursuant to a memorandum of understanding with the Commission.

DATES: Effective March 9, 2006.

FOR FURTHER INFORMATION CONTACT: Pablo Zylberglait, Legal Advisor for International Consumer Protection, International Division of Consumer Protection, 202 326-3260, pzylberglait@ftc.gov.

SUPPLEMENTARY INFORMATION: Notice is hereby given, pursuant to Reorganization Plan No. 4 of 1961, 26 FR 6191, that the Commission has delegated to the Associate Director for International Consumer Protection the authority to respond to disclosure and other requests from Costa Rica's MEIC pursuant to a memorandum of understanding with the Commission about consumer protection information sharing and enforcement cooperation. This delegated authority does not apply to competition-related investigations. When exercising its authority under this delegation, staff may only disclose information regarding consumer protection matters involving Costa Rica, and will require assurances of confidentiality from MEIC. Disclosures shall be made only to the extent consistent with current limitations on disclosure, including section 6(f) of the FTC Act, 15 U.S.C. 46(f), section 21 of the Act, 15 U.S.C. 57b-2, and Commission Rule 4.10(d), 16 CFR 4.10(d), and with the Commission's enforcement policies and other important interests. Where the subject matter of the information to be shared raises significant policy concerns, staff shall consult with the Commission before disclosing such information.

By direction of the Commission.
Donald S. Clark,
Secretary.

[FR Doc. E6-4213 Filed 3-23-06; 8:45 am]

BILLING CODE 6750-01-P